DEPARTMENT OF TRANSPORTATION

Federal Aviation Administration

14 CFR Part 39

[Docket No. FAA-2014-0143; Directorate Identifier 2012-NM-113-AD; Amendment 39-18753; AD 2016-25-27]

RIN 2120-AA64

Airworthiness Directives; Airbus Airplanes

AGENCY: Federal Aviation Administration (FAA), Department of Transportation (DOT).

ACTION: Final rule.

SUMMARY: We are adopting a new airworthiness directive (AD) for all Airbus Model A300 B4-603, B4-620, B4-622, B4-605R, B4-622R, F4-605R, F4-622R, and C4-605R variant F airplanes. This AD was prompted by reports of cracks in the frame base fittings connecting the frame lower positions to the center wing box. This AD requires repetitive detailed inspections for cracking of the lower frame fittings of the frame foot, and replacement with a new frame foot if cracking is found. This AD also provides optional terminating action for the repetitive inspections. We are issuing this AD to address the unsafe condition on these products.

DATES: This AD is effective February 8, 2017.

The Director of the Federal Register approved the incorporation by reference of certain publications listed in this AD as of February 8, 2017.

ADDRESSES: For service information identified in this final rule, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0143.

Examining the AD Docket

You may examine the AD docket on the Internet at http://www.regulations.gov by searching for and locating Docket No. FAA-2014-0143; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone: 425-227-2125; fax: 425-227-1149.

SUPPLEMENTARY INFORMATION:

Discussion

We issued a supplemental notice of proposed rulemaking (SNPRM) to amend 14 CFR part 39 by adding an AD that would apply to all Airbus Model A300 B4-603, B4-620, B4-622, B4-605R, B4-622R, F4-605R, F4-622R, and C4-605R variant F airplanes. The SNPRM published in the Federal Register on July 7, 2016 (81 FR 44241) (“the SNPRM”). We preceded the SNPRM with a notice of proposed rulemaking (NPRM) that published in the Federal Register on March 19, 2014 (79 FR 15266) (“the NPRM”). The NPRM was prompted by reports of cracks in the frame base fittings connecting the frame lower positions to the center wing box. The NPRM proposed to require repetitive detailed inspections of the lower frame fittings, related investigative actions, and corrective actions if necessary. The SNPRM proposed to replace the proposed requirements in the NPRM with new repetitive detailed inspections for cracking of the lower frame fittings of the frame foot, and replacement with a new frame foot if cracking is found. The SNPRM also proposed to provide optional terminating action for the repetitive inspections. We are issuing this AD to detect and correct cracking of the lower frame fittings, which could result in reduced structural integrity of the airplane.

The European Aviation Safety Agency (EASA), which is the Technical Agent for the Member States of the European Union, has issued EASA AD 2015-0217, dated October 30, 2015 (referred to after this as the Mandatory Continuing Airworthiness Information, or “the MCAI”), to correct an unsafe condition on all Airbus Model A300 B4-603, B4-620, B4-622, B4-605R, B4-622R, F4-605R, F4-622R, and C4-605R variant F airplanes. The MCAI states:

During accomplishment of Airbus Service Bulletin (SB) A300-53-6111 (EASA AD 2012-0103), addressing detailed visual inspections of the lower frame fittings between Frame (FR) 41 and FR46, a crack was detected on one A300-600 aeroplane in the area 2 of the foot of FR46 at junction radius level.

This frame, previously repaired due to a crack finding in the frame foot area 1, was not due to be inspected before reaching the post-repair inspection threshold, i.e. 45,400 flight cycles since repair embodiment.

Further investigation determined that the repairs specified in Airbus SB A300-53-6111 were of limited effect to prevent cracking in the frame foot area 2.

This condition, if not detected and corrected, could affect the structural integrity of the fuselage of all aeroplanes operated up to the extended service goal (ESG).

As a temporary action and until an improvement of the existing repairs was made available, EASA issued AD 2012-0229 [AD * * *] to require a one-time detailed inspection (DET) of the frame feet that were repaired in accordance with Airbus SB A300-53-6111, and the reporting of findings to Airbus.

Since that [EASA] AD was issued, a detailed study was performed resulting in the development of a new inspection programme.

Consequently, Airbus cancelled SB A300-53-6111 and replaced it with SB A300-53-6177, introducing repetitive DET of the lower frame fittings between FR41 and FR46 for the entire fleet. In addition to this new inspection programme, Airbus designed a new frame foot which can be installed on aeroplanes through Airbus SB A300-53-6176.

For the reasons described above, this [EASA] AD supersedes EASA AD 2012-0103, not retaining its requirements, and instead requires the new inspection programme for the lower frame fittings. This [EASA] AD also introduces an optional terminating action for the repetitive inspections required by the [EASA] AD.

Corrective actions include replacing any cracked lower frame fittings with a new frame foot. You may examine the MCAI in the AD docket on the Internet at http://www.regulations.gov by searching for and locating Docket No. FAA-2014-0143.

Comments

We gave the public the opportunity to participate in developing this AD. The following presents the comments received on the SNPRM and the FAA's response to each comment.

Request To Extend Compliance Time for Reporting Requirement

United Parcel Service (UPS) asked that the compliance time for submitting the inspection report specified in paragraph (h) of the proposed AD (in the SNPRM) be extended from 30 to 60 days. UPS stated that accomplishing the inspection may occur many days before the final task signoff (i.e., restoring access due to other work in the area), risking noncompliance with the 30-day requirement.

We agree to extend the compliance time for the reporting requirement in this AD to 60 days, because we have determined that this longer compliance time does not affect continued operational safety. We have changed paragraph (i) of this AD accordingly.

Request for Clarification of Compliance Time

Airbus asked that we clarify the compliance time for the inspections specified in paragraph (g) of the proposed AD (in the SNPRM). Airbus stated that unless Airbus Service Bulletin A300-53-6177, dated May 20, 2015, specifies differently, the inspection thresholds should be counted from the first flight of the airplane, not from the effective date of the AD. Airbus added that the compliance time provided in the proposed AD could be confusing to operators. Airbus also stated that for airplanes on which the inspections have not been done as of the effective date of the AD, no grace period is provided, which is a burden on operators.

We agree that clarification is necessary.

We agree that the compliance time identified in the “Threshold” column of paragraph 1.E., “Compliance,” of Airbus Service Bulletin A300-53-6177, dated May 20, 2015, refers to accumulated flight cycles or flight hours on the airplane since its first flight, but only if Airbus Service Bulletin A300-53-6177, dated May 20, 2015, does not specify differently. We redesignated paragraph (h) in the SNPRM as paragraph (i) of this AD, and redesignated subsequent paragraphs accordingly. We added clarification of the compliance times for the thresholds in paragraph (h)(1) of this AD.

We acknowledge that a grace period was not provided for all configurations. We removed the grace period exception language from paragraph (g) of the proposed AD (in the SNPRM) and moved it to paragraph (h)(2) of this AD. Paragraph (h)(2) of this AD explains that where grace periods specified in Airbus Service Bulletin A300-53-6177, dated May 20, 2015, refer to the issue date of certain service information, those compliance times are after the effective date of the AD. The exception in paragraph (h)(2) of this AD does not apply to compliance times specified as thresholds in Airbus Service Bulletin A300-53-6177, dated May 20, 2015.

In addition, we have determined that the actions for Configuration 004 airplanes identified in Airbus Service Bulletin A300-53-6177, dated May 20, 2015, must be clarified. For Configuration 004 airplanes identified in Airbus Service Bulletin A300-53-6177, dated May 20, 2015, the actions required by paragraph (g) of this AD cannot be accomplished in accordance with the Accomplishment Instructions of Airbus Service Bulletin A300-53-6177, dated May 20, 2015. Paragraph 1.E., “Compliance,” of Airbus Service Bulletin A300-53-6177, dated May 20, 2015, specifies the action for Configuration 004 airplanes as contacting and reporting to Airbus. Therefore, we have added paragraph (h)(3) to this AD to require operators to contact the Manager, International Branch, ANM-116, Transport Airplane Directorate, FAA; or the European Aviation Safety Agency (EASA); or Airbus's EASA Design Organization Approval (DOA), for corrective actions for Configuration 004 airplanes.

Request for Clarification of Inspections for Airplanes With a Previously Replaced Frame Foot

UPS asked for clarification of the inspection requirements specified in paragraph (g) of the proposed AD (in the SNPRM) for airplanes that previously replaced a frame foot per Airbus Service Bulletin A300-53-6111. UPS stated that if cracking was found during the inspections using that service information there were two options available: Installing a reinforcing doubler on the damaged fitting or replacing the fitting with a new part. UPS added that in Airbus Service Bulletin A300-53-6177, dated May 20, 2015, the inspection requirements are defined for airplanes previously inspected and found with no cracks, or fittings repaired per Airbus Service Bulletin A300-53-6111. UPS noted that it is not clear how to address airplanes on which the cracked fittings were replaced instead of installing a reinforcing repair. UPS asked that fittings replaced with a new part per Airbus Service Bulletin A300-53-6111 be treated as a previously inspected fitting with no crack findings, with repetitive inspections done per Airbus Service Bulletin A300-53-6177, dated May 20, 2015, using Configuration 001 instructions. UPS stated that this proposal is conservative and exceeds the inspection requirements in the proposed AD (in the SNPRM).

We agree that clarification is necessary. Airbus Service Bulletin A300-53-6177, dated May 20, 2015, defines four configurations: Configuration 001 for a frame foot that was never repaired, Configuration 002 for a frame foot that was preventatively repaired, Configuration 003 for a frame foot repaired in Area 1 as specified in Airbus Service Bulletin A300-53-6111 or with certain other repairs, and Configuration 004 for any frame foot not addressed by Configurations 1 through 3. If a new frame foot is installed on an airplane, it would be classified as Configuration 001. We have not changed this AD in this regard.

Conclusion

We reviewed the relevant data, considered the comments received, and determined that air safety and the public interest require adopting this AD with the changes described previously, and minor editorial changes. We have determined that these minor changes:

• Are consistent with the intent that was proposed in the SNPRM for correcting the unsafe condition; and

• Do not add any additional burden upon the public than was already proposed in the SNPRM.

We also determined that these changes will not increase the economic burden on any operator or increase the scope of this AD.

Related Service Information Under 1 CFR Part 51

Airbus has issued Service Bulletin A300-53-6177, dated May 20, 2015. The service information describes procedures for repetitive detailed inspections for cracking of the lower frame fittings between FR41 and FR46. Airbus has also issued Service Bulletin A300-53-6176, dated May 20, 2015. The service information describes procedures for replacing all lower frame feet between frame FR41 and FR46 with new, improved frame feet. This service information is reasonably available because the interested parties have access to it through their normal course of business or by the means identified in the ADDRESSES section.

Costs of Compliance

We estimate that this AD affects 123 airplanes of U.S. registry.

We estimate that it takes about 541 work-hours per product to comply with the basic requirements of this AD, and 1 work-hour per product for reporting. The average labor rate is $85 per work-hour. Based on these figures, we estimate the cost of this AD on U.S. operators to be $5,666,610, or $46,070 per product.

We estimate that the optional terminating modification will take about 529 work-hours and require parts costing $131,500, for a cost of $176,465.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-25-27 Airbus: Amendment 39-18753; Docket No. FAA-2014-0143; Directorate Identifier 2012-NM-113-AD.

(a) Effective Date

This AD is effective February 8, 2017.

(b) Affected ADs

None.

(c) Applicability

This AD applies to Airbus Model A300 B4-603, B4-620, B4-622, B4-605R, B4-622R, F4-605R, F4-622R, and C4-605R variant F airplanes; certificated in any category; all serial numbers.

(d) Subject

Air Transport Association (ATA) of America Code 53, Fuselage.

(e) Reason

This AD was prompted by reports of cracks in the frame base fittings connecting the frame lower positions to the center wing box. We are issuing this AD to detect and correct cracking of the lower frame fittings, which could result in reduced structural integrity of the airplane.

(f) Compliance

Comply with this AD within the compliance times specified, unless already done.

(g) Repetitive Inspections and Replacement

At the applicable time specified in paragraph 1.E., “Compliance,” of Airbus Service Bulletin A300-53-6177, dated May 20, 2015, except as required by paragraphs (h)(1) and (h)(2) of this AD: Perform a detailed inspection for cracking of the lower frame fittings between frame (FR) 41 and FR46 of the frame foot, and if any crack is found, before further flight, replace with a new frame foot, in accordance with the Accomplishment Instructions of Airbus Service Bulletin A300-53-6177, dated May 20, 2015, except as required by paragraph (h)(3) of this AD. Repeat the inspection thereafter at the applicable intervals specified in paragraph 1.E., “Compliance,” of Airbus Service Bulletin A300-53-6177, dated May 20, 2015.

(h) Service Information Exceptions

(1) Where the threshold identified in the “Threshold” column of paragraph 1.E., “Compliance,” of Airbus Service Bulletin A300-53-6177, dated May 20, 2015, specifies flight cycles or flight hours without specifying from a repair, replacement, or last inspection, the specified compliance time is accumulated flight cycles or flight hours on the airplane since its first flight.

(2) Where Airbus Service Bulletin A300-53-6177, dated May 20, 2015, specifies a compliance time “from issuance of revision 04 of Service Bulletin No. A300-53-6111,” or “from issuance of Service Bulletin No. A300-53-6177,” this AD requires compliance within the specified compliance time after the effective date of this AD.

(3) For Configuration 004 airplanes identified in Airbus Service Bulletin A300-53-6177, dated May 20, 2015: Within 6 months after the effective date of this AD, contact the Manager, International Branch, ANM-116, Transport Airplane Directorate, FAA; or the European Aviation Safety Agency (EASA); or Airbus's EASA Design Organization Approval (DOA), for corrective actions and accomplish all applicable corrective actions using a method approved by the Manager, International Branch, ANM-116, Transport Airplane Directorate, FAA; or EASA; or Airbus's EASA DOA.

(i) Reporting

At the applicable time specified in paragraph (i)(1) or (i)(2) of this AD: Submit a report of the findings (both positive and negative) of each inspection required by paragraph (g) of this AD. Send the report to Airbus Service Bulletin Reporting Online Application on Airbus World (https://w3.airbus.com).

(1) If the inspection was done on or after the effective date of this AD: Submit the report within 60 days after the inspection.

(2) If the inspection was done before the effective date of this AD: Submit the report within 60 days after the effective date of this AD.

(j) Optional Terminating Action

Replacement of all lower frame feet between FR41 and FR46, in accordance with the Accomplishment Instructions of Airbus Service Bulletin A300-53-6176, dated May 20, 2015, terminates the repetitive inspections required by paragraph (g) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone: 425-227-1405; fax: 425-227-2125. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(l) Related Information

Refer to Mandatory Continuing Airworthiness Information (MCAI) EASA AD 2015-0217, dated October 30, 2015, for related information. This MCAI may be found in the AD docket on the Internet at http://www.regulations.gov by searching for and locating Docket No. FAA-2014-0143.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-53-6176, dated May 20, 2015.

(ii) Airbus Service Bulletin A300-53-6177, dated May 20, 2015.

(3) For service information identified in this AD, contact Airbus SAS, Airworthiness Office—EAW, 1 Rond Point Maurice Bellonte, 31707 Blagnac Cedex, France; telephone: +33 5 61 93 36 96; fax: +33 5 61 93 44 51; email: account.airworth-eas@airbus.com; Internet: http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 6, 2016.
Dionne Palermo,
Acting Manager, Transport Airplane Directorate, Aircraft Certification Service.

[FR Doc. 2016-30117 Filed 1-3-17; 8:45 am]

BILLING CODE 4910-13-P